LEGAL SERVICES CORPORATION

Sunshine Act Meetings

TIME AND DATE: The Audit, Governance and Performance Review, and Operations and Regulations Committees of the Legal Services Corporation (LSC) Board of Directors will meet virtually on September 29, October 6, and October 7, 2025, respectively. The Audit Committee meeting will begin on September 29 at 3:00 p.m. Eastern Time and will continue until the conclusion of the Committee's agenda. On October 6, the Governance and Performance Review Committee meeting will begin at 10:00 a.m. Eastern Time and will continue until the conclusion of the Committee's agenda. On October 7, the Operations and Regulations Committee meeting will begin at 10:00 a.m. Eastern Time and will continue until the conclusion of the Committee's agenda.

PLACE: Public Notice of Virtual Meeting.

LSC will conduct the September 29, October 6 and October 7, 2025, meetings via videoconference. Unless otherwise noted herein, the meetings will be open to public observation via LSC's YouTube channel: https://www.youtube.com/@LegalServicesCorp/streams.

STATUS: Open, except as noted below.

MATTERS TO BE CONSIDERED:

Monday, September 29, 2025—Audit Committee Meeting

PORTIONS OPEN TO THE PUBLIC:

1. Approval of Agenda

2. Approval of Minutes of Committee's Open Session Meeting on July 15, 2025

3. Briefing on Chief Financial Officers Bootcamp

4. Update on the Scope and Plan for LSC's Forthcoming Annual Financial Statement Audit

5. Briefing by the Office of Inspector General, to include:

a. Update on key activities and accomplishments over the last quarter, and overview of plans and key priorities for the next quarter;

b. Highlights of recently completed audit work, open recommendations as reported in the latest Semi-Annual Report to Congress, ongoing work, and plans for the next quarter; and

c. Highlights of recently completed investigative work, ongoing work, and plans for the next quarter.

6. Review LSC's Efforts, Including Training and Education, to Help Ensure That LSC Employees and Grantees Act Ethically and Safeguard LSC Funds

7. Management Update Regarding Risk Management

8. Office of Compliance and Enforcement Briefing on Referrals by the Office of Inspector General Regarding Audit Reports and Annual Financial Statement Audits of Grantees

9. Consider and Act on Other Business

10. Consider and Act on Motion to Adjourn the Open Session Meeting and Proceed to a Closed Session

PORTIONS CLOSED TO THE PUBLIC:

1. Approval of Minutes of Committee's Closed Session Meeting on July 15, 2025

2. Office of Compliance and Enforcement Briefing on Active Enforcement Matter(s) and Follow-up on Open Investigation Referrals To and From the Office of Inspector General

3. Briefing by LSC Management Regarding Significant Grantee Oversight Activities

4. Consider and Act on Motion to Adjourn the Meeting

Monday, October 6, 2025—Governance and Performance Review Committee Meeting

1. Approval of Agenda

2. Approval of Minutes of the Committee's Meeting on July 9, 2025

3. Preview of Annual Board and Committee Evaluation Process

4. Consider and Act on Other Business

5. Consider and Act on Motion to Adjourn the Committee Meeting

Tuesday, October 7, 2025—Operations and Regulations Committee Meeting

1. Approval of agenda

2. Approval of Minutes of the Committee's Open Session Meeting on June 13, 2025

3. Proposed Rulemaking Timeline for 2025-2026

4. Consider and Act on Other Business

5. Consider and Act on Adjournment of Meeting

CONTACT PERSON FOR MORE INFORMATION: Jessica Wechter, Special Assistant to the President, at (202) 295-1500. Questions may also be sent by electronic mail to the Office of the Corporate Secretary at updates@lsc.gov.

Non-Confidential Meeting Materials: Non-confidential meeting materials will be made available in electronic format at least 24 hours in advance of the meeting on the LSC website, at https://www.lsc.gov/about-lsc/board-meeting-materials.

(Authority: 5 U.S.C. 552b.)

Dated: September 16, 2025.
Stefanie Davis,
Deputy General Counsel, Legal Services Corporation.

[FR Doc. 2025-18129 Filed 9-17-25; 11:15 am]

BILLING CODE 7050-01-P